DEPARTMENT OF ENERGY

International Energy Agency Meetings

AGENCY: Department of Energy.

ACTION: Notice of meetings.

SUMMARY: The Industry Advisory Board (IAB) to the International Energy Agency (IEA) will meet on June 14, 15, 2023, as a hybrid meeting via webinar and in person, in connection with a joint meeting of the IEA's Standing Group on Emergency Questions (SEQ) and the IEA's Standing Group on the Oil Market (SOM) which is scheduled at the same time via webinar.

DATES: June 14, 15, 2023.

ADDRESSES: The location details of the SEQ and SOM webinar meeting are under the control of the IEA Secretariat, located at 9 rue de la Fédération, 75015 Paris, France. The in person meeting will take place at IEA Headquarters, 9 rue de la Fédération, 75015 Paris, France.

FOR FURTHER INFORMATION CONTACT: Mr. Thomas Reilly, Assistant General Counsel for International and National Security Programs, Department of Energy, 1000 Independence Avenue SW, Washington, DC 20585, (202) 586-5000.

SUPPLEMENTARY INFORMATION: In accordance with section 252(c)(1)(A)(i) of the Energy Policy and Conservation Act (42 U.S.C. 6272(c)(1)(A)(i)) (EPCA), the following notice of meetings is provided:

A meeting of the Industry Advisory Board (IAB) to the International Energy Agency (IEA) will be held in person and via webinar at the IEA Headquarters, 9 rue de la Fédération, 75015 Paris, commencing at 9:30 a.m., Paris time, on June 14, 2023. The purpose of this notice is to permit attendance by representatives of U.S. company members of the IAB at a meeting of the IEA's Standing Group on Emergency Questions (SEQ), which is scheduled to be held at the same location in person and via webinar at the same time. The IAB will also hold a preparatory meeting among company representatives at the same location at 08:30 a.m. Paris time on June 14, 2023. The agenda for this preparatory meeting is to review the agenda for the SEQ meeting.

The agenda of the SEQ meeting is under the control of the SEQ. It is expected that the SEQ will adopt the following agenda:

Draft Agenda of the 175th Meeting of the SEQ

1. Adoption of the Agenda

2. Approval of the Summary Record of the 174th SEQ meeting

3. Stockholding levels of IEA Member Countries and Update on IEA Collective Actions

4. Oil stockholding task force; Legal task force—update on ongoing work

5. Emergency Response Review of New Zealand

6. Critical Minerals Security—update on ongoing work

7. Mid-term review of Spain

8. IEA Electricity Security—update on ongoing work

9. IEA Natural Gas Security—update on ongoing work

10. Industry Advisory Board Update

11. Emergency Response Review of Switzerland

12. Oral Reports by Administrations

13. Any Other Business

Schedule of ERRs for 2023

Schedule of SEQ & SOM Meetings for 2023/24:

—14-16 November 2023

—21-22 March 2024 (tentative)

—18-20 June 2024 (tentative)

—19-21 November 2024 (tentative)

A meeting of the Industry Advisory Board (IAB) to the International Energy Agency (IEA) will be held in person and via webinar at the IEA Headquarters, 9 rue de la Fédération, 75015 Paris, commencing at 9:30 a.m., Paris time, on June 15, 2023. The purpose of this notice is to permit attendance by representatives of U.S. company members of the IAB at a joint meeting of the IEA's Standing Group on Emergency Questions (SEQ) and the IEA's Standing Group on the Oil Market (SOM), which is scheduled to be held at the same location in person and via webinar at the same time.

The agenda of the meeting is under the control of the SEQ and the SOM. It is expected that the SEQ and the SOM will adopt the following agenda:

Draft Agenda of the Joint Session of the SEQ and the SOM

1. Adoption of the Agenda

2. Approval of Summary Record of meeting of 15-16 March 2023

3. Update on the Current Oil Market Situation

4. Reports on Recent Oil Market and Policy Developments in IEA Countries

5. Preparations for the IEA Ministerial Meeting: SOM & SEQ input

6. World Energy Investment Report

7. Medium Term Oil Market Report 2023 (OIL 2023): Overview

8. OIL 2023: Demand

9. OIL 2023: Supply

10. OIL 2023: Refining and Trade

11. OIL 2023: Industry Perspectives

12. OIL 2023: Roundtable discussion

13. Any other business:

Date of next SOM/SEQ meetings: 14-16 November 2023

As provided in section 252(c)(1)(A)(ii) of the Energy Policy and Conservation Act (42 U.S.C. 6272(c)(1)(A)(ii)), the meetings of the IAB are open to representatives of members of the IAB and their counsel; representatives of members of the IEA's Standing Group on Emergency Questions and the IEA's Standing Group on the Oil Markets; representatives of the Departments of Energy, Justice, and State, the Federal Trade Commission, the General Accounting Office, Committees of Congress, the IEA, and the European Commission; and invitees of the IAB, the SEQ, the SOM, or the IEA.

Signing Authority: This document of the Department of Energy was signed on June 5, 2023, by Thomas Reilly, Assistant General Counsel for International and National Security Programs, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, June 6, 2023.
Treena V. Garrett,
Federal Register Liaison Officer, U.S. Department of Energy.

[FR Doc. 2023-12316 Filed 6-8-23; 8:45 am]

BILLING CODE 6450-01-P